DEPARTMENT OF ENERGY

Federal Energy Regulatory Commission

Combined Notice of Filings # 1

January 13, 2009.

Take notice that the Commission received the following exempt wholesale generator filings:

Docket Numbers: EG09-22-000.

Applicants: Penascal Wind Power LLC.

Description: Penascal Wind Power LLC Notice of Self-Certification of Exempt Wholesale Generator Status.

Filed Date: 01/12/2009.

Accession Number: 20090112-5085.

Comment Date: 5 p.m. Eastern Time on Monday, February 2, 2009.

Take notice that the Commission received the following electric rate filings:

Docket Numbers: ER98-2329-007.

Applicants: Central Vermont Public Service Corp.

Description: Central Vermont Public Service Corp submits an affirmative statement that it has not erected any barriers to entry into the Northeast Region and will not erect any barriers to entry into the Northeast Region & request Waiver of Order 697.

Filed Date: 01/07/2009.

Accession Number: 20090112-0051.

Comment Date: 5 p.m. Eastern Time on Wednesday, January 28, 2009.

Docket Numbers: ER00-136-005; ER03-775-006.

Applicants: FortisUS Energy Corporation; FortisOntario Inc.

Description: FortisOntario Inc. and FortisUS Energy Corp submit Second Revised Sheet No. 1 et al. to FERC Electric Tariff, Original Volume No. 1, effective 9/18/07.

Filed Date: 01/08/2009.

Accession Number: 20090109-0161.

Comment Date: 5 p.m. Eastern Time on Thursday, January 29, 2009.

Docket Numbers: ER03-9-015; ER98-2157-016.

Applicants: Westar Energy, Inc.; Kansas Gas and Electric Company.

Description: Change in Status Notification of Westar Energy, Inc.

Filed Date: 01/12/2009.

Accession Number: 20090112-5024.

Comment Date: 5 p.m. Eastern Time on Monday, February 2, 2009.

Docket Numbers: ER03-114-005; ER04-183-004.

Applicants: Great Bay Power Marketing, Inc.; Great Bay Hydro Corporation.

Description: Great Bay Power Marketing and Great Bay Hydro Corp submits updated versions of their Substitute First Revised Sheets to Original Rate Schedule FERC 1.

Filed Date: 01/08/2009.

Accession Number: 20090109-0204.

Comment Date: 5 p.m. Eastern Time on Thursday, January 29, 2009.

Docket Numbers: ER03-719-012; ER03-721-011; ER98-830-021.

Applicants: New Athens Generating Company, LLC; New Harquahala Generating Company, LLC; Millennium Power Partners, L.P.

Description: Notice of New Athens Generating Company, LLC, et al. for Non-material Change in Status.

Filed Date: 01/12/2009.

Accession Number: 20090112-5177.

Comment Date: 5 p.m. Eastern Time on Monday, February 2, 2009.

Docket Numbers: ER03-198-009.

Applicants: Pacific Gas and Electric Company.

Description: Pacific Gas and Electric Co. submits a Notice of Non-Material Change in Status.

Filed Date: 01/05/2009.

Accession Number: 20090108-0108.

Comment Date: 5 p.m. Eastern Time on Monday, January 26, 2009.

Docket Numbers: ER09-219-001; ER09-220-001.

Applicants: Duke Energy Carolinas, LLC.

Description: Duke Energy Carolinas, LLC submits Attachment A, Substitute Sixth Revised Service Agreement 208, et al.

Filed Date: 01/07/2009.

Accession Number: 20090108-0200.

Comment Date: 5 p.m. Eastern Time on Wednesday, January 28, 2009.

Docket Numbers: ER09-459-000.

Applicants: American Transmission Systems, Incorpora.

Description: Amendment to Application of American Transmission Systems, Incorporated for Wholesale Distribution Service Agreement with Borough of Wampum, PA.

Filed Date: 01/08/2009.

Accession Number: 20090108-5068.

Comment Date: 5 p.m. Eastern Time on Thursday, January 29, 2009.

Docket Numbers: ER09-503-000.

Applicants: BC Landfill Energy LLC.

Description: BC Landfill Energy, LLC submits for filing its Petition for Acceptance of Electric Tariff, Waivers and Blanket Authorization.

Filed Date: 01/07/2009.

Accession Number: 20090108-0373.

Comment Date: 5 p.m. Eastern Time on Wednesday, January 28, 2009.

Docket Numbers: ER09-504-000.

Applicants: AC Landfill Energy, LLC.

Description: AC Landfill Energy, LLC submits for filing its Petition for Acceptance of Electric Tariff, Waivers and Blanket Authorization.

Filed Date: 01/07/2009

Accession Number: 20090108-0372.

Comment Date: 5 p.m. Eastern Time on Wednesday, January 28, 2009.

Docket Numbers: ER09-505-000.

Applicants: WC Landfill Energy, LLC.

Description: WC Landfill Energy, LLC submits for filing its Petition for Acceptance of Electric Tariff, Waivers and Blanket Authorization.

Filed Date: 01/07/2009.

Accession Number: 20090108-0371.

Comment Date: 5 p.m. Eastern Time on Wednesday, January 28, 2009.

Docket Numbers: ER09-513-000

Applicants: Cygnus Energy Partners, LLC.

Description: Cygnus Energy Futures, LLC submits the Petition for Acceptance of Initial Tariff and Waivers.

Filed Date: 01/08/2009.

Accession Number: 20090109-0198.

Comment Date: 5 p.m. Eastern Time on Thursday, January 29, 2009

.

Docket Numbers: ER09-514-000.

Applicants: Cygnus Energy Futures, LLC.

Description: Cygnus Energy Futures, LLC submits the Petition for Acceptance of Initial Tariff and Waivers.

Filed Date: 01/08/2009.

Accession Number: 20090109-0197.

Comment Date: 5 p.m. Eastern Time on Thursday, January 29, 2009.

Docket Numbers: ER09-515-000.

Applicants: Ameren Services Company.

Description: Ameren Services Company on behalf of Union Electric Company submits for filing their Wholesale Distribution Service Agreement.

Filed Date: 01/07/2009.

Accession Number: 20090108-0365.

Comment Date: 5 p.m. Eastern Time on Wednesday, January 28, 2009.

Docket Numbers: ER09-516-000.

Applicants: Ameren Services Company.

Description: Ameren Services Company on behalf of Central Illinois Public Service Company submits for filing their Wholesale Distribution Service Agreement.

Filed Date: 01/07/2009.

Accession Number: 20090108-0366.

Comment Date: 5 p.m. Eastern Time on Wednesday, January 28, 2009.

Docket Numbers: ER09-517-000.

Applicants: Ameren Services Company.

Description: Ameren Services Company on behalf of Central Illinois Public Service Company submits for filing their Wholesale Distribution Service Agreement.

Filed Date: 01/07/2009.

Accession Number: 20090108-0367.

Comment Date: 5 p.m. Eastern Time on Wednesday, January 28, 2009.

Docket Numbers: ER09-518-000.

Applicants: Ameren Services Company.

Description: Ameren Services Company on behalf of Union Electric Company submits for filing their Wholesale Distribution Service Agreement.

Filed Date: 01/07/2009.

Accession Number: 20090108-0368.

Comment Date: 5 p.m. Eastern Time on Wednesday, January 28, 2009.

Docket Numbers: ER09-519-000.

Applicants: Ameren Services Company.

Description: Ameren Services Company on behalf of Union Electric Company submits for filing their Wholesale Distribution Service Agreement.

Filed Date: 01/07/2009.

Accession Number: 20090108-0369.

Comment Date: 5 p.m. Eastern Time on Wednesday, January 28, 2009.

Docket Numbers: ER09-520-000.

Applicants: Ameren Services Company.

Description: Ameren Services Company on behalf of Union Electric Company submits for filing their Wholesale Distribution Service Agreement.

Filed Date: 01/07/2009.

Accession Number: 20090108-0370.

Comment Date: 5 p.m. Eastern Time on Wednesday, January 28, 2009.

Docket Numbers: ER09-521-000.

Applicants: Ameren Services Company.

Description: Ameren Services Company on behalf of Union Electric Company submits for filing their Wholesale Distribution Service Agreement.

Filed Date: 01/07/2009.

Accession Number: 20090108-0364.

Comment Date: 5 p.m. Eastern Time on Wednesday, January 28, 2009.

Docket Numbers: ER09-522-000.

Applicants: Alliant Energy Corporate Services, Inc.

Description: Alliant Energy Corporate Services, Inc submits Notice of Cancellation of AECS's Interstate Electric Corporation FERC Electric Tariff, Original Volume 2.

Filed Date: 01/05/2009.

Accession Number: 20090108-0199.

Comment Date: 5 p.m. Eastern Time on Monday, January 26, 2009.

Docket Numbers: ER09-524-000.

Applicants: Idaho Power Company.

Description: Idaho Power Co submits FERC Electric Tariff No. 8 for the Sale, Assignment or Transfer of Bonneville Power Administration Rights.

Filed Date: 01/08/2009.

Accession Number: 20090109-0160.

Comment Date: 5 p.m. Eastern Time on Thursday, January 29, 2009.

Docket Numbers: ER09-525-000.

Applicants: PacifiCorp.

Description: PacifiCorp submits its Seventh Revised Volume No. 11 Open Access Transmission Tariff.

Filed Date: 01/08/2009.

Accession Number: 20090109-0159

Comment Date: 5 p.m. Eastern Time on Thursday, January 29, 2009.

Docket Numbers: ER09-526-000.

Applicants: Westar Energy, Inc.

Description: Westar Energy, Inc submits First Revised Sheet No. 9 of a Control Area Services Agreement with Missouri Joint Municipal Electric Utility Commission.

Filed Date: 01/08/2009.

Accession Number: 20090109-0162.

Comment Date: 5 p.m. Eastern Time on Thursday, January 29, 2009.

Docket Numbers: ER09-527-000.

Applicants: PJM Interconnection L.L.C.

Description: PJM Interconnection, LLC submits an executed interconnection service agreement among PJM, Indian River Power and Delmarva Power and Light Company.

Filed Date: 01/09/2009.

Accession Number: 20090112-0203.

Comment Date: 5 p.m. Eastern Time on Friday, January 30, 2009.

Docket Numbers: ER09-528-000.

Applicants: Puget Sound Energy, Inc.

Description: Puget Sound Energy, Inc submits FERC Electric Transmission Reassignment Tariff, Original Volume 449.

Filed Date: 01/09/2009.

Accession Number: 20090112-0204.

Comment Date: 5 p.m. Eastern Time on Friday, January 30, 2009.

Docket Numbers: ER09-529-000.

Applicants: Virginia Electric & Power Company.

Description: Virginia Electric and Power Company et al submits a revised Generator Interconnection and Operating Agreement between Dominion and Fauquier Landfill Gas, LLC revising the rates associated with Dominion provision etc.

Filed Date: 01/09/2009.

Accession Number: 20090112-0177.

Comment Date: 5 p.m. Eastern Time on Friday, January 30, 2009.

Docket Numbers: ER09-530-000.

Applicants: PacifiCorp.

Description: PacifiCorp submits jurisdictional agreement et al.

Filed Date: 01/09/2009.

Accession Number: 20090112-0175.

Comment Date: 5 p.m. Eastern Time on Friday, January 30, 2009.

Docket Numbers: ER09-531-000.

Applicants: Virginia Electric & Power Company.

Description: Virginia Electric and Power Company et al. submits a revised and executed Mutual Operating Agreement between Dominion and Old Dominion Electric Cooperative providing for a wires-to-wires operating between the two entities.

Filed Date: 01/09/2009.

Accession Number: 20090112-0174.

Comment Date: 5 p.m. Eastern Time on Friday, January 30, 2009.

Docket Numbers: ER09-532-000.

Applicants: Entergy Services, Inc.

Description: Entergy Operating Companies submits two executed Network Integration Transmission Service Agreements and Network Operating Agreements between ESI and American Electric Power Service Corporation etc.

Filed Date: 01/09/2009.

Accession Number: 20090112-0178.

Comment Date: 5 p.m. Eastern Time on Friday, January 30, 2009.

Take notice that the Commission received the following public utility holding company filings:

Docket Numbers: PH09-6-000.

Applicants: Ecofin Holdings Limited.

Description: FERC-65A Notice of Material Change in Facts of Ecofin Holdings Limited.

Filed Date: 01/09/2009.

Accession Number: 20090109-5049.

Comment Date: 5 p.m. Eastern Time on Friday, January 30, 2009.

Docket Numbers: PH09-7-000.

Applicants: The Capital Group Companies, Inc.

Description: FERC-65A Notice of Material Change in Facts of The Capital Group Companies, Inc.

Filed Date: 01/09/2009.

Accession Number: 20090109-5052.

Comment Date: 5 p.m. Eastern Time on Friday, January 30, 2009.

Docket Numbers: PH09-8-000.

Applicants: Goldman Sachs Group, Inc.

Description: Notice of Material Change in Facts—Goldman Sachs Group Inc.

Filed Date: 01/08/2009.

Accession Number: 20090108-5070.

Comment Date: 5 p.m. Eastern Time on Thursday, January 29, 2009.

Docket Numbers: PH09-9-000.

Applicants: ArcLight Capital Holdings, LLC.

Description: Notice of Change in Facts of ArcLight Capital Holdings, LLC.

Filed Date: 01/08/2009.

Accession Number: 20090108-5069.

Comment Date: 5 p.m. Eastern Time on Thursday, January 29, 2009.

Docket Numbers: PH09-10-000.

Applicants: BayCorp Holdings, Ltd.

Description: Report of BayCorp Holdings, Ltd. under PH06-30; Material Change in Facts pursuant to 18 CFR 366.4(b) and FERC-65A Exemption Notification.

Filed Date: 01/09/2009.

Accession Number: 20090109-5173.

Comment Date: 5 p.m. Eastern Time on Friday, January 30, 2009.

Docket Numbers: PH09-11-000.

Applicants: FPL Group, Inc.

Description: Notification of Update to Petition for Waiver of FPL Group, Inc. (FERC Form 65B).

Filed Date: 01/09/2009.

Accession Number: 20090109-5175.

Comment Date: 5 p.m. Eastern Time on Friday, January 30, 2009.

Docket Numbers: PH09-12-000.

Applicants: AES Corporation.

Description: FERC-65B Notice of Material Change in Facts of AES Corporation.

Filed Date: 01/09/2009.

Accession Number: 20090109-5223.

Comment Date: 5 p.m. Eastern Time on Friday, January 30, 2009.

Docket Numbers: PH09-13-000.

Applicants: Freeport McMoran Copper & Gold, Inc., Freeport McMoRan Corp.

Description: Freeport McMoRan Copper & Gold, Inc. and Freeport McMoRan Corp. Notification of Material Change in Facts Not Affecting PUHCA 2005 Exemption.

Filed Date: 01/09/2009.

Accession Number: 20090109-5226.

Comment Date: 5 p.m. Eastern Time on Friday, January 30, 2009.

Docket Numbers: PH09-14-000.

Applicants: Brookfield Asset Management Inc.

Description: Brookfield Asset Management Inc. FERC Form 65 PUHCA.

Filed Date: 01/09/2009.

Accession Number: 20090109-5229.

Comment Date: 5 p.m. Eastern Time on Friday, January 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-1477 Filed 1-23-09; 8:45 am]

BILLING CODE 6717-01-P